DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Bottlenose Dolphin Conservation Outreach Survey.

OMB Control Number: None.

Form Number(s): None.

Type of Request: Regular submission.

Burden Hours: 563.

Number of Respondents: 1,125.

Average Hours per Response: 30 minutes.

Needs and Uses: The objective of this survey is to assess the level of awareness on issues related to regulations preventing feeding/harassment of wild bottlenose dolphins, which are protected under the Marine Mammal Protection Act. In particular, the survey is designed to determine what commercial operators and the general public know about specific regulations prohibiting feeding and harassment of bottlenose dolphins, and how they gained their knowledge and/or perceptions on the topic. This information will be used to help refine outreach and education materials and associated efforts. The initial geographic region for this survey is Panama City, Florida, where numerous incidences of dolphin harassment and feeding have been documented. The intent ultimately is to also use this survey in other areas of the southeast region to gain a similar understanding and ensure outreach messages are appropriate for intended audiences.

Affected Public: Individuals or households; business or other for-profit organizations.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 15, 2008.
Gwellnar Banks,
Management Analyst, Office of the Chief Information Officer.

[FR Doc. E8-30117 Filed 12-18-08; 8:45 am]

BILLING CODE 3510-22-P